DEPARTMENT OF HEALTH AND HUMAN SERVICES

Agency for Healthcare Research and Quality

The National Advisory Council for Healthcare Research and Quality; Meeting Cancellation

With this notice, the Agency for Healthcare Research and Quality informs the public of the cancellation of its meeting on “The National Advisory Council for Healthcare Research and Quality” for December 10. The original meeting notice was published on the Federal Register on November 21, 2002, Volume 67, Number 225, Page No. 70226.

Dated: December 9, 2002.
Carolyn M. Clancy,
Acting Director.

[FR Doc. 02-31543 Filed 12-10-02; 4:27 pm]

BILLING CODE 4160-90-M